DEPARTMENT OF DEFENSE

Department of the Army

Final Environmental Impact Statement (FEIS) for Development and Implementation of Range-Wide Mission and Major Capabilities at White Sands Missile Range (WSMR), NM

AGENCY: Department of the Army, DoD.

ACTION: Notice of availability.

SUMMARY: The Department of the Army announces the availability of an FEIS that analyzes environmental and socioeconomic impacts resulting from expanding testing and training capabilities at WSMR. The FEIS analyzes the impacts of land use changes that provide for expanded off-road maneuver and facilities to support new testing and training requirements associated with increased Brigade Combat Team (BCT) modernization (formerly known as Future Combat Systems) testing (preferred alternative) and the stationing of a Heavy Brigade Combat Team (HBCT) (or comparable unit) of approximately 3,800 Soldiers. On June 2, 2009, the Secretary of the Army announced a decision not to station an HBCT at WSMR in 2013; however, it was decided to retain the analysis in this FEIS to support implementation of potential future stationing decisions.

DATES: The waiting period will end 30 days after publication of a notice of availability for the FEIS in the Federal Register by the U.S. Environmental Protection Agency.

ADDRESSES: For specific questions regarding the FEIS, please contact: White Sands Test Center, Operations Office, Attention: Catherine Giblin, 124 Crozier Street, Building 124, Room B-15, White Sands Missile Range, NM 88002. Written questions may be mailed to the above address, faxed to (575) 678-4082, or e-mailed to: WSMREIS@conus.army.mil.

FOR FURTHER INFORMATION CONTACT: Mr. Monte Marlin, Public Affairs Office, Building 1782, Headquarters Avenue, White Sands Missile Range, NM 88002; (575) 678-1134; or e-mail monte.marlin@us.army.mil.

SUPPLEMENTARY INFORMATION: The proposed action (Alternative 1) would result in a flexible, capabilities-based land use and airspace plan able to accommodate rapidly evolving customer needs, support current and future mission activities, and support a full range of test and training efforts from individual components up through major joint and multi-national programs. The FEIS analyzes the environmental impacts associated with the testing, training, and stationing activities under the proposed plan. Testing typically involves activities such as missile flight tests, aerial intercepts, air-delivered munitions tests against ground targets, directed energy and various weapons systems tests. Training involves military personnel using the land for maneuver, as well as for field evaluation of weapons, equipment, communication systems, or other objectives. Testing, training and stationing require additional infrastructure such as barracks, motor pools, and administrative buildings.

The development and implementation of a land use and airspace plan is intended to integrate and realize more fully the capabilities of the WSMR primary mission (research, development, testing, and evaluation (RDTE)) with new training capabilities and potential future Army stationing decisions. Establishing new test and training capabilities requires changing land use designations within the current installation boundaries. These changes would support current and future requirements and allow off-road vehicle maneuver on designated portions of the installation. WSMR will maintain its current RDTE mission and continue to support testing objectives of all military services and federal agencies.

In addition to consideration of Alternative 1 and a No Action Alternative (current test capabilities and land use designations with current levels of operations and activities), one additional alternative was analyzed. Alternative 2 includes those activities described in Alternative 1 plus potential future stationing of an HBCT (or comparable unit) by expanding the cantonment area and construction of supporting infrastructure and additional off-road maneuver areas for training on WSMR.

Copies of the FEIS are available at local libraries surrounding WSMR and may also be accessed at http://www.wsmr.army.mil. Comments from the public will be considered before any final decision is made.

Dated: December 14, 2009.
Addison D. Davis IV,
Deputy Assistant Secretary of the Army (Environment, Safety, and Occupational Health).

[FR Doc. E9-30594 Filed 12-30-09; 8:45 am]

BILLING CODE 3710-08-M